DEPARTMENT OF COMMERCE

National Oceanic and Atmospheric Administration

RIN 0648-XF295

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a four-day meeting to consider actions affecting the Gulf of Mexico fisheries in the exclusive economic zone (EEZ).

DATES: The meeting will be held on Monday, April 3 through Thursday, April 6, 2017.

ADDRESSES: The meeting will take place at the Hyatt Regency Birmingham—The Winfrey Hotel, located at 1000 Riverchase Galleria, Birmingham, AL 35244; telephone: (205) 705-1234.

Council address: Gulf of Mexico Fishery Management Council, 2203 N. Lois Avenue, Suite 1100, Tampa, FL 33607; telephone: (813) 348-1630.

FOR FURTHER INFORMATION CONTACT: Douglas Gregory, Executive Director, Gulf of Mexico Fishery Management Council; telephone: (813) 348-1630.

SUPPLEMENTARY INFORMATION:

Agenda

Monday, April 3, 2017; 8:30 a.m.-5:30 p.m.

The Law Enforcement Committee will meet in a CLOSED SESSION, to select the 2016 Law Enforcement Officer of the Year Recipient; the Advisory Panel Selection Committee will meet in a FULL COUNCIL—CLOSED SESSION to discuss appointments to the Coastal Migratory Pelagics Advisory Panel; and the Data Collection Management Committee will receive a presentation from the Southeast Fisheries Science Center (SEFSC) on Recreational Data Procedures and discuss MRIP Percent Standard Error (PSE) Methods and Protocols.

After lunch, the Joint Coral/Habitat Protection & Restoration Committees will review scoping workshop summaries for Coral Amendment 7; the Sustainable Fisheries Committee will discuss the effectiveness of techniques to reduce Barotrauma Effects, and will review a white paper on Acceptable Biological Catch (ABC) Control Rule Revisions and Framework Procedures; the Spiny Lobster Committee will review Spiny Lobster Regulatory Amendment 4; and, the Administrative/Budget Committee will review grant expenditures and anticipated budget activities and funding, approve changes to check writing procedures and review H.R. 200 (MSA Reauthorization) potential impacts.

Tuesday, April 4, 2017; 8:30 a.m.-5 p.m.

The Reef Fish Management Committee will review projections for the 2017 Federal Recreational Fishing Seasons and discuss State Seasons, discuss Final Action items: Amendment 36A—Modifications to Commercial Individual Fishing Quota (IFQ) Programs, Amendment 46—Gray Triggerfish Rebuilding Plan, Framework Action—Mutton Snapper Annual Catch Limits (ACL) and Management Measures and Gag Commercial Size Limit, and Framework Action to Adjust Greater Amberjack Acceptable Catch Limit (ACL) and stock assessment update. The committee will review public hearing draft for Amendment 47—Modify Vermillion Snapper ACLs and Maximum Sustainable Yield (MSY) proxy. The committee will discuss SEDAR 49—Stock Assessment Results for Data-Limited Stocks, and Charter For-Hire Management. The committee will review SERO/SEFSC responses to documentation requested by Gulf Angler Fishing Group; and receive a summary from the Standing and Reef Fish Scientific and Statistical Committee (SSC).

Wednesday, April 5, 2017; 8:30 a.m.-5 p.m.

The Shrimp Management Committee will discuss the biological review of the Texas Closures; review updated stock assessments for brown, white and pink shrimp, and SSC report; receive a summary from the Shrimp Advisory Panel meeting; and discuss final action on Shrimp Amendment 17B—Yield, Threshold Number of Permits and Transit Provisions.

The Full Council will convene mid-morning (approximately 10:15 a.m.) with a Call to Order, Announcements, Introductions; Adoption of Agenda and Approval of Minutes; and review of Exempt Fishing Permit (EFPs) Applications, if any. The Council will receive presentations on Lenfest Ecosystem Task Force, and Alabama Law Enforcement. After lunch, the Council will receive public testimony from 1:30 p.m. until 5 p.m. on the following agenda testimony items: Final Action on Reef Fish Amendment 46—Modify the Gray Triggerfish Rebuilding Plan, Final Action on Reef Fish Amendment 36A—Modifications to the Commercial Individual Fishing Quota (IFQ) Programs, Final Action on Shrimp Amendment 17B—Yield, Threshold Number of Permits, and Transit Provisions, Final Action on Framework Action—Modify Mutton Snapper ACL and Management Measures and the Commercial Gag Minimum Size Limit, and Final Action—Framework Action to increase Greater Amberjack Annual Catch Limits; and, hold an open public testimony period regarding any other fishery issues or concern. Anyone wishing to speak during public comment should sign in at the registration station located at the entrance to the meeting room.

Thursday, April 6, 2017; 8:30 a.m.-4 p.m.

Full Council will receive committee reports from Shrimp, Reef Fish, Joint Coral/Habitat Protection & Restoration, Spiny Lobster, Administrative/Budget, Data Collection, and the Sustainable Fisheries Management Committees. The Council will announce the 2016 Law Enforcement Officer of the Year; vote on Exempted Fishing Permit (EFP) applications, if any; and receive updates from the following supporting agencies: South Atlantic Fishery Management Council; Gulf States Marine Fisheries Commission; U.S. Coast Guard; U.S. Fish and Wildlife Service; and, the Department of State.

Lastly, the Council will discuss any Other Business items.

—Meeting Adjourns

The timing and order in which agenda items are addressed may change as required to effectively address the issue. The latest version will be posted on the Council's file server, which can be accessed by going to the Council's Web site at http://www.gulfcouncil.org and clicking on FTP Server under Quick Links. For meeting materials, select the “Briefing Books/Briefing Book 2017-04” folder on Gulf Council file server. The username and password are both “gulfguest”. The meetings will be webcast over the internet. A link to the webcast will be available on the Council's Web site, http://www.gulfcouncil.org.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Kathy Pereira (see ADDRESSES) at least 5 days prior to the meeting date.

Dated: March 14, 2017.
Tracey L. Thompson,
Acting Deputy Director, Office of Sustainable Fisheries, National Marine Fisheries Service.

[FR Doc. 2017-05360 Filed 3-16-17; 8:45 am]

BILLING CODE 3510-22-P